DEPARTMENT OF LABOR

Office of the Secretary

Submission for OMB Review; Comment Request

March 31, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or by E-Mail King.Darrin@dol.gov.

Comments should be sent to Office of Information and Regulatory Affairs, Attn: OMB Desk Officer OASAM, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Office of the Assistant Secretary for Administration and Management (OASAM), Civil Rights Center.

Type of Review: Extension of a currently approved collection.

Title: Compliance Information Report—29 CFR part 37 Nondiscrimination-Workforce Investment Act of 1998.

OMB Number: 1225-0077.

Affected Public: State, Local, or Tribal Government.

Frequency: On occasion.

Type of Response: Recordkeeping and Reporting.

Number of Respondents: 1,662.

Requirement | Annual responses | Average response time (hours) | Annual burden hours
Data Collection & Maintenance:
Demographic data | 40,720,528 | 0.006 | 226,225
Employment data | 0 | 0 | 0
Data maintenance | 0 | 0 | 0
Complaint log | 1,662 | 0.05 | 83
Administrative Findings | 1 | 0.33 | 0.3
Methods of Administration:
Initial development | 0 | 0 | 0
Notification of changes | 5 | 0.5 | 2.5
Two-year re-certification | 58 | 3 | 174
Complaint Information Form | 1,500 | 0.25 | 375
Written Justifications | 20 | 2 | 40
Totals | 40,723,774 |  | 226,900

Total Annualized Capital/Startup Costs: $0.

Total Annual Costs (operating/maintaining systems or purchasing services): $166,200.

Description: The information collection requirements of 29 CFR part 37 provide DOL with data to ensure that grantees do not discriminate. The information collected on the form DL-1-2014A (Compliant Information Form) provides a basis for conducting investigations of complaints.

Ira L. Mills,
Departmental Clearance Officer.

[FR Doc. 03-8226 Filed 4-3-03; 8:45 am]

BILLING CODE 4510-23-P